FEDERAL EMERGENCY MANAGEMENT AGENCY

44 CFR Part 67

[Docket No. FEMA-7307]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director, Mitigation Directorate, certifies that this proposed rule is exempt from the requirements of the Regulatory Flexibility Act because proposed or modified base flood elevations are required by the Flood Disaster Protection Act of 1973, 42 U.S.C. 4104, and are required to establish and maintain community eligibility in the National Flood Insurance Program. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD): Existing | #Depth in feet above ground. *Elevation in feet (NGVD): Modified
Alabama | Cowarts (Town), Houston County | Crawford Creek | Approximately 1,325 feet downstream of Omusee Road | None | *228
|  |  | Just upstream of Omusee Road | None | *233
Maps available for inspection at the Cowarts Town Hall, 800 Jester Street, Cowarts, Alabama.
Send comments to The Honorable Robert Hall, Mayor of the Town of Cowarts, 800 Jester Street, Cowarts, Alabama 36321.
Alabama | Dothan (City), Houston County | Rock Creek | Approximately 50 feet upstream of the confluence with Little Choctawhatchee River | *227 | *228
|  |  | At Murray Road | *310 | *312
|  | Beaver Creek Tributary 1 | Approximately 300 feet downstream of Honeysuckle Road | *271 | *270
|  |  | Approximately 100 feet upstream of State Route 52 | None | *305
|  | Poplar Spring | At the confluence with Omusee Creek | None | *216
|  | Branch | At a point approximately 300 feet upstream of U.S. Route 84 | None | *283
|  | Rocky Branch | Approximately 150 feet upstream of the confluence with Omusee Creek | None | *231
|  |  | At East Wilson Street | *302 | *301
|  | Cypress Creek | Approximately 1,700 feet upstream of Hodgesville Road | None | *227
|  |  | Approximately 60 miles upstream of East Coe Dairy Road | None | *291
|  | Buelah Creek | Approximately 1,500 feet upstream of the confluence with Omusee Creek | None | *233
|  |  | Approximately 1.04 miles upstream of Headland Avenue | None | *276
|  | Omusee Creek | Approximately 50 feet upstream of the confluence of Golf Creek | None | *208
|  |  | Approximately 0.33 miles upstream of Old Kinsey Road | None | *230
|  | Gold Creek | At the confluence with Omusee Creek | None | *208
|  |  | At Prevatt Road | None | *264
|  | Crawford Creek | At the confluence with Golf Creek | None | *208
|  |  | Approximately 1,325 feet downstream of Omusee Road | None | *228
|  | Cypress creek | At the confluence with Cypress Creek | *245 | *250
|  | Tributary 1 | Approximately 1,500 feet upstream of Cottonwood Road | None | *281
|  | Cypress Creek | Just upstream of Third Avenue | None | *240
|  | Tributary 2 | Just upstream of dirt trail | None | *296
|  | Chipola Creek | At Fuller Road | *238 | *240
|  |  | Just upstream of Taylor Road | None | *282
|  | Chipola Creek | At the confluence with Chipola Creek | None | *266
|  | Tributary | Approximately 0.41 mile upstream of Bruner Road | None | *284
|  | Beaver Creek Tributary 2 | Approximately 250 feet upstream from the confluence with Beaver Creek | None | *223
|  |  | Approximately 530 feet upstream of most upstream dam | None | *249
|  | Beaver Creek Tributary 3 | At the confluence with Beaver Creek Tributary 2 | None | *247
|  |  | Just downstream of Enterprise Highway | None | *298
|  | Harrison Mill Creek | Approximately 0.37 mile upstream of the confluence with Little Choctawhatchee River | None | *205
|  |  | Approximately 0.5 mile upstream of Bethlehem Road | None | *224
|  | Cooper Creek | Approximately 1,725 feet upstream of Lucy Grade Road | None | *205
|  |  | Approximately 190 feet upstream of Fowler Road | None | *219
|  | Unnamed | At the confluence with Beulah Creek | None | *276
|  | Tributary to Beulah Creek | Approximately 340 feet upstream of the confluence with Beulah Creek | None | *277
Map available for inspection at the Dothan City Hall, 125 North St. Andrews, Dothan, Alabama.
end comments to The Honorable Chester Sowell, Mayor of the City of Dothan, P.O. Box 2128, Dothan, Alabama 36302.
Alabama | Houston County | Rocky Branch | At the confluence with Omusee Creek | None | *231
| (Unincorporated Areas) |  | Approximately 150 feet upstream of Confluence with Omusee Creek | None | *231
|  | Chipola Creek | Approximately 300 feet downstream of South Park Avenue | None | *250
|  |  | Approximately 1,275 feet upstream of Bruner Road | None | *261
|  | Golf Creek | At the confluence of Omusee Creek | None | *208
|  |  | At the confluence of Crawford Creek | None | *208
|  | Cypress Creek | At the confluence of Cypress Creek | None | *238
|  | Tributary 2 | Approximately 450 feet upstream of Reservoir Outlet | None | *270
|  | Cooper Creek | At confluence with Cowarts Creek | None | *192
|  |  | Approximately 2,000 feet upstream of Lucy Grade Road | None | *208
|  | Beaver Creek | At the confluence of Beaver Creek | None | *223
|  | Tributary 2 | Approximately 250 feet upstream of the confluence of Beaver Creek | None | *223
|  | Omusee Creek | Approximately 1,580 feet downstream of Watson Bridge Road | None | *207
|  |  | At the confluence of Beulah Creek and Burdeshaw Mill Creek | None | *233
|  | Crawford Creek | At the confluence of Gold Creek | None | *208
|  |  | Approximately 1.175 feet upstream of State Route 52 | None | *227
|  | Cypress Creek | Approximately 525 feet downstream of Hodgesville Road | None | *223
|  |  | Approximately 350 feet downstream of confluence of Cypress Creek Tributary 1 | None | *250
Alabama | Taylor (Town), Houston County | Chipola Creek | Approximately 30 feet downstream of Fuller Road | None | *238
|  |  | Approximately 100 feet upstream of Fuller Road | None | *238
Maps available for inspection at the Taylor Town Hall, 1469 South County Road 59, Taylor, Alabama.
Send comments to the Honorable Michael Tucker, Mayor of the Town of Taylor, 1469 South County Road 95, Taylor, Alabama 36301.
Connecticut | Meriden (City), New Haven County | Quinnipiac River | At downstream corporate limits | *73 | *70
|  |  | Approximately 1.04 miles upstream of Oregon Road | *100 | *101
|  | Sodom Brook | Approximately 0.53 mile downstream of Coe Avenue | *93 | *92
|  |  | At downstream side of Leonard Street | *138 | *137
|  | Harbor Brook | Approximately 0.58 mile downstream of Coe Avenue | *92 | *91
|  |  | At confluence of Willow and Spoon Shop Brooks | *201 | *205
|  | Spoon Shop Brook | At confluence with Harbor Brook | *201 | *205
|  |  | At Birdsey Avenue | *368 | *370
|  | Willow Brook | At confluence with Harbor Brook | *201 | *205
|  |  | Approximately 0.7 mile upstream of Cinema Road | *282 | *283
|  | Crow Hollow Brook | At confluence with Sodom Brook | *100 | *99
|  |  | Approximately 70 feet upstream of West Main Street | *192 | *193
Maps available for inspection at the Meriden City Hall, 142 East Main Street, Meriden, Connecticut.
Send comments to The Honorable Joseph Marinan, Mayor of the City of Meriden, 142 East Main Street, Meriden, Connecticut 06450.
Connecticut | Middletown (City), Middlesex County | Longhill Brook | Approximately 130 feet downstream of South Main Street | *53 | *52
|  |  | Just upstream of Wesleyan Roadd | *188 | *187
|  | Longhill Brook Diversion Channel | At the downstream confluence with Longhill Brook | *80 | *82
|  |  | At the upstream confluence with Longhill Brook | *91 | *98
|  | Roundhill Brook | At the confluence with Longhill Brook | *85 | *88
Maps available for inspection at the Middletown City Hall, 45 DeKoven Drive, Middletown, Connecticut.
Send comments to The Honorable Domenique S. Thornton, Mayor of the City of Middletown, P.O. Box 1300, Middletown, Connecticut 06457.
Connecticut | South Windsor (Town), Hartford County | Avery Brook | Approximately 1,475 feet downstream of Benedict Drive | *175 | *176
|  |  | Approximately 340 feet downstream of Beelzebub Road | None | *226
Maps available for inspection at the South Windsor Town Hall, 1540 Sullivan Avenue, South Windsor, Connecticut.
Send comments to Mr. Matthew Galligan, South Windsor Town Manager, South Windsor Town Hal, 1540 Sullivan Avenue, South Windsor, Connecticut 06074.
Florida | Polk County (Unincorporated Areas) | Seward Lake | Entire shoreline within community | None | *136
|  | Hidden Lake | Entire shoreline within community | None | *134
|  | Sick Lake | Entire shoreline within community | None | *134
|  | Reedy Creek | A point approximately 16.1 miles above mouth | None | *67
|  |  | A point approximately 19.9 miles above mouth | None | *68
|  | Lake Crago | Entire shoreline within community | None | *134
Maps available for inspection at the Polk County Engineering Department, 330 West Church Street, Bartow, Florida.
Send comments to Mr. Jim W. Keene, Manager of Polk County, P.O. Box 9005, Drawer CA01, Bartow, Florida 33831.
Georgia | Americus (City), Sumter County | Town Creek | Approximately 500 feet downstream of Magnolia Street | *331 | *330
|  |  | Approximately 225 feet upstream of Rigas Road | None | *373
|  | Mill Creek Tributary | Approximately 800 feet downstream of CSX Transportation | None | *385
|  |  | Approximately 130 feet upstream of State Route 27 | *338 | *339
Maps available for inspection at the Americus City Hall, Community Development Department, 101 West Lamar Street, Americus, Georgia.
Send comments to Ms. Sybil Smith, City of Americus Chief Administrative Officer, P.O. Box M, Americus, Georgia 31709.
Georgia | Rockdale County (Unincorporated Areas) | Lake Capri Tributary | Approximately 400 feet downstream of the Lake Capri Dam | *719 | *720
|  |  | Approximately 1,200 feet upstream of Capistrano Dam | *735 | *734
|  | Hammock Creek | At confluence of Yellow River | None | *711
|  |  | Approximately 0.28 mile upstream of Humphries Road | None | *814
|  | Yellow River | Approximately 2,950 feet upstream of Irwan Bridge Road | *710 | *711
|  |  | At county boundary | *718 | *719
|  | Big Haynes Creek | Approximately 3,800 feet upstream from State Route 138 | None | *740
|  |  | Approximately 2,850 feet upstream from Aaralson Mill Road | None | *752
Maps available for inspection at the Rockdale County Department of Public Services, 2570 Old Covington Highway, Conyers, Georgia.
Send comments to Mr. Norman Wheeler, Chairman of the Rockdale County Board of Commissioners, 922 Court Street, Conyers, Georgia 30012.
Georgia | Sumter County | Muckalee Creek | At the confluence of Mill Creek | None | *321
| (Unincorporated Areas) |  | Approximately 1,800 feet upstream of confluence of Wolf Creek | None | *333
|  | Mill Creek Tributary | Approximately 700 feet downstream of CSX Transportation | None | *339
|  |  | Approximately 1,500 feet downstream of U.S. Route 280 | None | *375
Maps available for inspection at the Code Enforcement Office, Sumter County Courthouse, West Lamar Street, Americus, Georgia.
Send comments to Mr. J. Wade Halstead, Chairman of the Sumter County Board of Commissioners, P.O. Box 295, Americus, Georgia 31709.
Illinois | Beach Park (Village), Lake | Bull Creek (near Waukegan) | Just upstream of Talmadge Avenue | *627 | *625
| County |  | Approximately 725 feet upstream of the upstream crossing of Beach Road | None | *627
Maps available for inspection at the Beach Park Village Hall, 11270 West Wadsworth Road, Beach Park, Illinois.
Send comments to Mr. Milt Jenson, President of the Village of Beach Park, 11270 West Wadsworth Road, Beach Park, Illinois 60099.
Illinois | Hickory Hills (City), Cook County | Lucas Ditch | Approximately 1,000 feet upstream of Lucas Ditch Out-Off Tributary | *595 | *594
|  |  | Approximately 0.41 mile upstream of Lucas Ditch Cut-Off Tributary | *595 | *594
Maps available for inspection at the City of Hickory Hills Building Department, 8652 West 95th Street, Hickory Hills, Illinois.
Send comments to The Honorable Roy J. Faddis, Mayor of the City of Hickory Hills, 8652 West 95th Street, Hickory Hills, Illinois 60457.
Illinois | LaSalle (City), LaSalle County | Illinois River | Approximately 0.82 mile downstream of State Route 351 | *462 | *463
|  |  | Approximately 0.95 mile upstream of Illinois Central Railroad | *463 | *465
Maps available for inspection at the LaSalle City Hall, 745 Second Street, LaSalle, Illinois.
Send comments to The Honorable Arthur Washkowiak, Mayor of the City of LaSalle, 745 Second Street, LaSalle, Illinois 61301.
Illinois | LaSalle County | Goose Creek | At downstream corporate limits | None | *509
| (Unincorporated Areas) |  | At upstream corporate limits | None | *516
|  | Illinois River | Approximately 2.5 miles downstream of State Route 251 | None | *462
|  |  | Approximately 1.1 miles upstream of South Main Street (State Route 170) | None | *497
|  | Fox River | At the confluence with the Illinois River | None | *472
|  |  | Approximately 850 feet downstream of Clear Creek | None | *554
|  | Prairie Creek | At the confluence with the Vermilion River | None | *573
|  |  | A point approximately 2,850 feet upstream of Otter Creek Road | None | *628
|  | Vermilion River | Upstream of Oakley Road | None | *567
|  |  | Approximately 0.77 mile upstream of Bridge Street | None | *580
|  | Clark Run Creek | At confluence with Illinois River | None | *466
|  |  | Approximately 625 feet upstream of abandoned Illinois and Michigan Canal | None | *473
|  | Coal Run Creek | Approximately 50 feet upstream of South Otter Creek Road | None | *614
|  |  | Approximately 585 feet upstream of South Otter Creek Road | None | *615
|  | Rat Run | At the confluence with the Illinois River | None | *494
|  |  | At the Missouri, Kansas, Texas Railroad | None | *501
|  | Lake Holiday | Entire shoreline within community | None | *644
|  | First Creek | Approximately 970 feet upstream of confluence with Little Vermilion River | None | *715
|  |  | Approximately 250 feet upstream of 6th Street | None | *719
|  | First Creek Tributary | Approximately 350 feet upstream of 17th Street | None | *740
|  |  | At 17th Street | None | *740
|  | South Branch Coal Run Creek | Downstream side of South Otter Creek | None | *614
|  |  | Approximately 425 feet upstream of South Otter Creek Street | None | *615
|  | Ponding Area | Approximately 1,800 feet northwest of intersection of West Church Street and Johnson Street | None | #1
Maps available for inspection at the LaSalle County Courthouse, County Clerk's Office, 707 Etna Road, Ottawa, Illinois.
Send comments to Mr. Joseph Hettel, Chairman of the LaSalle County Board of Commissioners, 707 Etna Road, Ottawa, Illinois 61350.
Illinois | Marseilles (City), LaSalle County | Illinois River | Approximately 4,200 feet downstream of Main Street | None | *479
|  |  | Approximately 15,500 feet upstream of Main Street | None | *492
Maps available for inspection at the Marseilles City Hall, 209 Lincoln Street, Marseilles, Illinois.
Send comments to The Honorable John C. Knudson, Mayor of the City of Marseilles, 209 Lincoln Street, Marseilles, Illinois 61341.
Illinois | McCook (Village), Cook County | East Avenue Ditch | At East Avenue | None | *648
|  |  | Approximately 1,550 feet upstream of East Avenue | None | *648
Maps available for inspection at the McCook Village Hall, 50th & Glencoe Avenue, McCook, Illinois.
Send comments to The Honorable Emil T. Sergo, Mayor of the Village of McCook, 5000 Glencoe Avenue, P.O. Box 1501, McCook, Illinois 60525
Illinois | Millington (Village), LaSalle County | Fox River | Approximately 1.6 miles upstream of Interstate 80 | *555 | *553
|  |  | Approximately 400 feet upstream of confluence of Clear Creek | *557 | *555
|  | Clear Creek | At confluence with the Fox River | *557 | *555
|  |  | At the Burlington Northern Railroad | *557 | *556
Maps available for inspection at the Millington Village Hall, Walnut Street, Millington, Illinois.
Send comments to Ms. Janet Blue, Millington Village President, Walnut Street, P.O. Box 371, Millington, Illinois 60537.
Illinois | North Utica (Village), LaSalle County | Clark Run Creek | Approximately 0.46 mile downstream of crossing of the abandoned Illinois and Michigan Canal | *465 | *466
|  |  | Approximately 700 feet downstream of confluence of the abandoned Illinois and Michigan Canal | *465 | *466
|  | Illinois River | Approximately 0.38 mile downstream of State Route 178 | *465 | *466
|  |  | Approximately 0.55 mile upstream of State Route 178 | *465 | *466
Maps available for inspection at the North Utica Village Hall, 245 Johnson Street, Utica, Illinois.
Send comments to Mr. Joseph M. Carey, North Utica Village President, 245 Johnson Street, Utica, Illinois 61373.
Illinois | Ottawa (City), LaSalle County | Goose Creek | Approximately 400 feet downstream of Champlain Street | *476 | *472
|  |  | Approximately 150 feet upstream of Champlain Street | *476 | *475
|  | Illinois River | Approximately 0.4 mile downstream of Burlington Northern Railroad | *472 | *471
|  |  | Approximately 4,400 feet upstream of confluence of Fox River | None | *473
|  | Fox River | Approximately 500 feet upstream of confluence with the Illinois River | *473 | *472
|  |  | Approximately 0.98 mile upstream of confluence of Goose Creek | None | *474
Maps available for inspection at the Ottawa City Hall, 301 West Madison Street, Ottawa, Illinois.
Send comments to The Honorable Robert M. Eschbach, Mayor of the City of Ottawa, Ottawa City Hall, 301 West Madison Street, Ottawa, Illinois 61350.
Illinois | Palatine (Village), Cook County | Salt Creek, Arlington Heights | At confluence with Salt Creek, Arlington Heights Branch | *719 | *717
|  | Branch Anderson Drive Tributary | Approximately 450 feet upstream of Evergreen Drive | None | *719
|  | Salt Creek, | Upstream side of Northwest Highway | *714 | *711
|  | Arlington Heights Branch | Downstream side of Quentin Road | None | *711
|  | Salt Creek | Approximately 1,900 feet downstream of Euclid Avenue | *727 | *725
|  |  | Downstream side of Roselle Road | *767 | *764
|  | Salt Creek Tributary C | Approximately 1,200 feet upstream of Quentin Road | *740 | *750
|  |  | Downstream side of Roselle Road | None | *765
|  | Buffalo Creek Tributary A | Approximately 200 feet upstream of Dundee Road | *744 | *743
|  |  | At confluence with Salt Creek Arlington Heights Branch | None | *759
Maps available for inspection at the Palatine Village Hall, 200 East Wood Street, Palatine, Illinois.
Send comments to Mr. Michael Cassady, Palatine Village Manager, 200 East Wood Street, Palatine, Illinois 60067.
Illinois | Peru (City), LaSalle County | Illinois River | Approximately 7,350 feet downstream of State Route 251 | *461 | *462
|  |  | A point approximately 2,600 feet upstream of State Route 251 | *462 | *463
Maps available for inspection at the Peru City Clerk's Office, 1727 Fourth Street, Peru, Illinois.
Send comments to The Honorable Donald L. Baker, Mayor of the City of Peru, P.O. Box 299, Peru, Illinois 61354.
Illinois | Seneca (Village), LaSalle County | Illinois River | Approximately 1.1 miles downstream of South Main Street (State Route 170) | None | *494
|  |  | Approximately 400 feet upstream of upstream county boundary | *498 | *497
|  | Rat Run | Approximately 2,750 feet downstream of Main Street (State Route 170) | *492 | *494
|  |  | Approximately 1,000 feet downstream of Main Street (State Route 170) | *493 | *494
Maps available for inspection at the Seneca Village Hall, 116 West Williams Street, Seneca, Illinois.
Send comments to The Honorable David Yeck, Mayor of the Village of Seneca, 116 West Williams Street, Seneca, Illinois 61360.
Illinois | Sheridan (Village), LaSalle County | Fox River | At the downstream corporate limits | None | *542
|  | Approximately 1,725 feet upstream of North 41st Road | None | *545
Maps available for inspection at the Sheridan Village Hall, Engineer's Office, Robinson Street, Sheridan, Illinois.
Send comments to The Honorable James D. Allen, Mayor of the Village of Sheridan, P.O. Box 222, Sheridan, Illinois 60551.
Illinois | Waukegan (City), Lake County | Bull Creek (near Waukegan) | Approximately 175 feet upstream of North Shore Avenue | *654 | *651
|  |  | Just upstream of the upstream crossing of Beach Road | *669 | *665
Maps available for inspection at the Waukegan City Hall, 106 North Utica, Waukegan, Illinois.
Send comments to The Honorable Bill Durkin, Mayor of the City of Waukegan, 106 North Utica, Waukegan, Illinois 60085.
Illinois | Winnebago County | Manning Creek | At confluence with Kishwaukee River | None | *729
| (Unincorporated Areas) |  | Approximately 0.52 mile upstream of Lyford Road | None | *857
|  | Unnamed | Just downstream of U.S. Route 20 | None | *765
|  | Tributary to South Kent Creek | Approximately 1,600 feet upstream of Frontage Road | None | *782
|  | Kishwaukee River | Just upstream of Interstate 90 | None | *729
|  |  | Approximately 1,400 feet upstream of Interstate 90 | None | *729
Maps available for inspection at the Winnebago County Highway Department, 424 North Springfield Road, Rockford, Illinois.
Send comments to Ms. Christine Cohn, Chairman of the Winnebago County Board of Supervisors, 404 Elm Street, Rockford, Illinois 61101.
Illinois | Winnetka (Village), Cook County | Skokie River | Approximately 150 feet downstream of Winnetka Road | None | *625
|  |  | Approximately 1,200 feet upstream of Tower Road | *625 | *626
|  | Lake Michigan | Entire shoreline within community | *584 | *585
Maps available for inspection at the Winnetka Village Hall, 510 Green Bay Road, Winnetka, Illinois.
Send comments to Ms. Louise Holland, President of the Village of Winnetka, Village Hall, 510 Green Bay Road, Winnetka, Illinois 60093.
Maine | Andrews Island, Knox County | Atlantic Ocean | Approximately 2,000 feet northeast of Nash Point |  | *20
|  |  | At the island of The Neck, west side of Andrews Island |  | *10
Maps available for inspection at the Land Use Regulation Commission, AMHI Complex, Harlow Building, Hospita Street, Augusta, Maine.
Send comments to Mr. Fred Todd, Manager, Land Use and Regulation Commission, 22 State House Station, Augusta, Maine 04333-0022.
New Hampshire | Holderness (Town), Grafton County | Pemigewasset River | At downstream corporate limits | *485 | *483
|  |  | At upstream corporate limits | *490 | *489
Maps available for inspection at the Holderness Town Office, Route 3, Holderness, New Hampshire.
Send comments to Mr. Steve Huff, Chairman of the Town of Holderness Board of Selectmen, P.O. Box 203, Holderness, New Hampshire 03245.
New Hampshire | Plymouth (Town), Grafton County | Pemigewasset River | Approximately 1.2 miles downstream of the confluence with Glove Hollow Brook | *483 | *481
|  |  | Approximately 1.3 miles upstream of Interstate 95 | *490 | *489
Maps available for inspection at the Plymouth Town Hall, 6 Post Office Square, Plymouth, New Hampshire.
Send comments to Mr. Steve Panagoulis, Chairman of the Town of Plymouth Board of Selectmen, Plymouth Town Hall, 6 Post Office Square, Plymouth, New Hampshire 03264.
New Jersey | Chatham (Borough), Morris County | Passaic River | Approximately 175 feet downstream of Main Street | *181 | *180
|  |  | Approximately 300 feet upstream of Stanley Avenue | *204 | *205
Maps available for inspection at the Chatham Borough Hall, 54 Fairmount Avenue, Chatham, New Jersey.
Send comments to Mr. Henry M. Underhill, Chatham Borough Administrator, 54 Fairmount Avenue, Chatham, New Jersey 07928.
New Jersey | Chatham (Township), Morris County | Passaic River | Approximately 0.38 mile downstream of Mount Vernon Avenue | *204 | *205
|  |  | Approximately 1,520 feet upstream of Snyder Avenue | *214 | *212
Maps available for inspection at the Chatham Township Hall, 58 Meyersville Road, Chatham, New Jersey.
Send comments to The Honorable Tom Patterson, Mayor of the Township of Chatham, 58 Meyersville Road, Chatham, New Jersey 07928.
New Jersey | Hanover (Township), Morris County | Whippany River | At Troy Road | *179 | *177
|  |  | At confluence of Black Brook | *183 | *182
|  | Black Brook | At confluence with Whippany River | *183 | *182
|  |  | Approximately 1,300 feet upstream of the confluence of Pinch Brook | *183 | *182
Maps available for inspection at the Township of Hanover Engineering Department, 1000 Route 10, Whippany, New Jersey.
Send comments to Mr. Joseph Giorgio, Hanover Township Administrator, P.O. Box 250, Whippany, New Jersey 07981.
New Jersey | Harmony (Township), Warren County | Delaware River | At downstream corporate limits | *202 | *201
|  |  | A point approximately 260 feet upstream of the upstream corporate limits | *230 | *232
|  | Buckhorn Creek | At confluence with Delaware River | *221 | *225
|  |  | A point approximately 1,800 feet upstream of confluence with Delaware River | *224 | *225
Maps available for inspection at the Harmony Township Hall, 3003 Belvidere Road, Phillipsburg, New Jersey.
Send comments to The Honorable Henry Skirbst, Mayor of the Township of Harmony, 3003 Belvidere Road, Phillipsburg, New Jersey 08865.
New Jersey | Long Hill (Township), Morris County | Passaic River | Approximately 0.9 mile downstream of Passaic Valley Road | *213 | *212
|  |  | Approximately 1,500 feet upstream of White Bridge Road | None | *230
Maps available for inspection at the Long Hill Municipal Building, 1802 Long Hill Road, Millington, New Jersey.
Send comments to Mr. Joseph Manning, Long Hill Township Administrator, 1802 Long Hill Road, Millington, New Jersey 07946.
New York | Cold Brook (Village), Herkimer County | Sheet Flow | Approximately 880 feet north of intersection of State Route 8 and Rose Valley Road along east side of State Route 8 | None | #2
|  |  | Approximately 1,170 feet north of intersection of State Route 8 and Military Road along east side of State Route 8 | None | #2
|  |  | Approximately 1,720 feet north of intersection of State Route 8 and Military Road along the west side of State Route 8 | None | #2
Maps available for inspection at the Cold Brook Village Hall, 457 Main Street, Cold Brook, New York.
Send comments to The Honorable Juan Butera, Mayor of the Village of Cold Brook, P.O. Box 215, Cold Brook, New York 13324.
New York | Lancaster (Town), Erie County | Little Buffalo Creek | At confluence with Cayuga Creek | None | *679
|  |  | At a point approximately 1,200 feet upstream of Schwartz Road | None | *723
|  | Scajaquada Creek | At Service Place | *696 | *697
|  |  | At a point approximately 600 feet upstream of Stoneledge Drive | None | *711
|  | Plum Bottom Creek | Upstream side of Steinfeldt Road | *685 | *686
|  |  | At a point approximately 720 feet upstream of Cemetery Road | *700 | *702
|  | Ellicott Creek | Approximately 1,700 feet upstream of Transit Road | *701 | *702
|  |  | Approximately 100 feet upstream of Pavement Road | None | *729
Maps available for inspection at the Town of Lancaster Building Inspector's Office, 11 West Main Street, Lancaster, New York.
Send comments to Mr. Robert Giza, Lancaster Town Supervisor, 21 Central Avenue, Lancaster, New York 14086.
New York | Monroe (Town), Orange County | Palm Brook | Approximately 72 feet upstream of State Route 17 | None | *657
|  |  | Approximately 0.3 mile upstream of Raywood Drive | None | *760
Maps available for inspection at the Town of Monroe Building Department, 11 Stage Road, Monroe, New York.
Send comments to Mr. Mike Frerichs, Monroe Town Supervisor, 11 Stage Road, Monroe, New York 10950.
New York | Oneida (City), Madison County | Higinbotham Brook | At abandoned railroad | *429 | *428
|  |  | Approximately 460 feet upstream of State Route 5 | None | *479
Maps available for inspection at the City of Oneida Municipal Building, 109 Main Street, Oneida, New York.
Send comments to Honorable James Chappell, Mayor of the City of Oneida, 109 North Main Street, Oneida, New York 13421.
New York | Peru (Town), Clinton County | Ausable River | Approximately 0.59 mile downstream of U.S. Route 9 | *102 | *103
|  |  | Approximately 0.83 mile upstream of U.S. Route 9 | None | *116
|  | Little Ausable River | Upstream side of Delaware and Hudson Railroad Bridge | *102 | *103
|  |  | Downstream side of Jarvis Road | None | *321
|  | Silver Stream | Approximately 320 feet downstream of U.S. Route 9 | *102 | *103
|  |  | Downstream side of I-87 Northbound | None | *185
|  | Button Brook | At confluence with Little Ausable River | None | *284
|  |  | Downstream side of Peasleeville Road | None | *366
Maps available for inspection at the Peru Town Hall, 3036 Main Street, Peru, New York.
Send comments to Mr. Kenneth T. Jahn, Supervisor of the Town of Peru, 3036 Main Street, P.O. Box 596, Peru, New York 12972.
North Carolina | Franklin County (Unincorporated Areas) | Lake Royale | Approximately 3,000 feet east of intersection of Baptist Church Road and Sledge Road | None | *191
|  | Tar River | A point approximately 1.20 miles upstream of North Main Street | None | *207
|  |  | A point approximately 1.66 miles upstream of North Main Street | None | *211
Maps available for inspection at the Franklin County Planning and Development Office, 215 East Nash Street, Louisburg, North Carolina.
Send comments to Mr. James Moss, Chairman of the Franklin County Board of Commissioners, 113 Market Street, Louisburg, North Carolina 27549.
North Carolina | Louisburg (Town), Franklin County | Tar River | A point approximately 1.2 miles upstream of North Main Street | None | *207
|  |  | A point approximately 1.66 miles upstream of North Main Street | None | *211
Maps available for inspection at the Louisburg Town Hall, 110 West Nash Street, Louisburg, North Carolina.
Send comments to The Honorable Lucy Allen, Mayor of the Town of Louisburg, 110 West Nash Street, Louisburg, North Carolina 27549.
Ohio | Warren County (Unincorporated Areas) | Bear Run | Approximately 120 feet upstream of Hopkins Road | *726 | *727
|  |  | Approximately 25 feet upstream of Zoar Road | None | *818
|  | Newman Run | At downstream side of U.S. Route 42 | None | *721
|  |  | At confluence with North Fork Newman Run | None | *767
|  | North Fork | At confluence with Newman Run | None | *767
|  | Newman Run | At upstream side of Lytle Road | None | *974
|  | Salt Run | Approximately 1,350 feet upstream of confluence with Little Miami River | None | *599
|  |  | Approximately 30 feet on the upstream side of Morrow-Cozdale Road | None | *842
|  | Satterthwaites Run | Approximately 0.79 mile above the confluence with the Little Miami River Mill Run Channel | None | *808
|  |  | At the upstream side of Lytle Road | None | *971
Maps available for inspection at the Warren County Map Room, 320 East Silver Street, Lebanon, Ohio.
Send comments to Mr. Larry Crisenbery, President of the Warren County Board of Commissioners, 320 East Silver Street, Lebanon, Ohio 45036.
Ohio | Waynesville (Village), Warren County | Satterthwaites Run | Approximately 400 feet downstream of U.S. Route 42 | None | *725
|  |  | At upstream corporate limits | None | *837
Maps available for inspection at the Waynesville Village Hall, 291 Church Street, Waynesville, Ohio.
Send comments to Mr. R. Kevin Harper, Waynesville Village Manager, P.O. Box 657, Waynesville, Ohio 45068.
Pennsylvania | Allen (Township), Northampton County | Lehigh River | Approximately 1.03 miles upstream of State Route 329 | *302 | *304
|  |  | Approximately 1.02 miles downstream of State Route 145 | *323 | *321
|  | Catasauqua Creek | A point approximately 0.52 mile downstream of dam | None | *303
|  |  | Approximately 150 feet upstream of Private Road | None | *326
|  | Hokendauqua Creek | Approximately 0.4 mile downstream of State Route 329 | None | *321
|  |  | Approximately 1,320 feet upstream of State Route 329 | None | *329
Maps available for inspection at the Allen Township Hall, 4714 Indian Trail Road, Northampton, Pennsylvania.
Send comments to Mr. Paul Balliet, Chairman of the Township of Allen Board of Supervisors, 4714 Indian Trail Road, Northampton, Pennsylvania 18067.
Pennsylvania | Ayr (Township), Fulton County | Big Cove Creek | Approximately 0.6 mile downstream of the corporate limits | None | *848
|  |  | At the corporate limits | None | *865
Maps available for inspection at the Ayr Township Building, 979 Buchanan Trail, McConnellsburg, Pennsylvania.
Send comments to Mr. Marlin Harr, Chairman of the Ayr Township Board of Commissioners, P.O. Box 212, McConnellsburg, Pennsylvania 17233.
Pennsylvania | Bethelehem (City), Northampton County | Lehigh River | Just downstream of Freemansburg Highway bridge | *224 | *223
|  |  | Approximately 0.18 mile upstream of CONRAIL Railroad | *239 | *236
|  | Saucon Creek | At the confluence of Lehigh River | *226 | *224
|  |  | At the centerline of Friedensville Road | *276 | *277
Maps available for inspection at the Bethlehem City Hall, Planning Office, 10 East Church Street, Bethlehem, Pennsylvania.
Send comments to The Honorable Donald T. Cunningham, Jr., Mayor of the City of Bethlehem, 10 East Church Street, Bethlehem, Pennsylvania 18018.
Pennsylvania | Bethlehem (Township), Northampton County | Lehigh River | Approximately 1.97 miles upstream of Chain Dam | *209 | *210
|  |  | Approximately 0.8 mile downstream of Freemansburg Highway bridge | *220 | *221
Maps available for inspection at the Bethlehem Township Municipal Building, 4225 Easton Avenue, Bethlehem, Pennsylvania.
Send comments to Mr. Jeff J. Bartlett, Acting Bethlehem Township Manager, 4225 Easton Avenue, Bethlehem, Pennsylvania 18020.
Pennsylvania | East Allen (Township), Northampton County | Monocacy Creek | Downstream of Mill Street | None | *406
|  |  | Approximately 1,000 feet downstream of Mill Street | None | *406
Maps available for inspection at the East Allen Township Offices, 5344 Nor-Bath Boulevard, Northampton, Pennsylvania.
Send comments to Mr. Roger Unangst, Chairman of the Township of East Allen Board of Supervisors, 5344 Nor-Bath Boulevard, Northampton, Pennsylvania 18067.
Pennsylvania | Easton (City), Northampton County | Lehigh River | Approximately 528 feet downstream of Easton Dam | *192 | *195
|  |  | Approximately 1.55 miles upstream of Chain Dam | *209 | *208
|  | Delaware River | Approximately 1 mile upstream of Interstate 78 | *188 | *191
|  |  | Approximately 1.23 miles upstream of confluence with Bushkill Creek | *198 | *199
Maps available for inspection at the Easton City Hall, 1 South Third Street, Easton, Pennsylvania.
Send comments to The Honorable Thomas F. Goldsmith, Mayor of the City of Easton, 1 South Third Street, Easton, Pennsylvania 18042.
Pennsylvania | East Rockhill (Township), Bucks County | East Branch Perkiomen Creek | A point approximately 50 feet upstream of East Callowhill Road | *317 | *315
|  |  | Approximately 620 feet upstream of East Callowhill Road | *318 | *317
Maps available for inspection at the East Rockhill Township Office, 1622 Ridge Road, Perkasie, Pennsylvania.
Send comments to Mr. John Cressman, Chairman of the Township of East Rockhill Board of Supervisors, 1622 Ridge Road, Perkasie, Pennsylvania 18944.
Pennsylvania | Emmaus (Borough), Lehigh County | Little Lehigh Creek | At downstream corporate limits | *324 | *331
|  |  | At upstream corporate limits | *329 | *337
Maps available for inspection at the Emmaus Borough Hall, 28 South Fourth Street, Emmaus, Pennsylvania.
Send comments to The Honorable Winfield Iost, Mayor of the Borough of Emmaus, 28 South Fourth Street, Emmaus, Pennsylvania 18049.
Pennsylvania | Forks (Township), Northampton County | Delaware River | Approximately 1.16 miles upstream of confluence with Bushkill Creek | *198 | *199
|  |  | Approximately 0.54 mile downstream of confluence with Mud Run | *207 | *206
Maps available for inspection at the Forks Township Hall, 1606 Sullivan Trail, Easton, Pennsylvania.
Send comments to Mr. David Hoff, Chairman of the Township of Forks Board of Supervisors, 1606 Sullivan Trail, Easton, Pennsylvania 18040.
Pennsylvania | Freemansburg (Borough), Northampton County | Lehigh River | Approximately 420 feet upstream of confluence with Nancy Creek | *221 | *222
|  |  | Approximately 1.26 miles downstream of confluence with Monocacy Creek | *229 | *226
Maps available for inspection at the Freemansburg Borough Hall, 600 Monroe Street, Freemansburg, Pennsylvania.
Send comments to The Honorable Gerald Yob, Mayor of the Borough of Freemansburg, 600 Monroe Street, Freemansburg, Pennsylvania 18017.
Pennsylvania | Glendon (Borough), Northampton County | Lehigh River | Approximately 0.31 mile downstream of Glendon Parkway | *194 | *195
|  |  | Approximately 0.27 mile upstream of Chain Dam | *204 | *203
Maps available for inspection at the Glendon Borough Hall, 24 Franklin Street, Easton, Pennsylvania.
Send comments to The Honorable Charles Seip, Mayor of the Borough of Glendon, 24 Franklin Street, Easton, Pennsylvania 18042.
Pennsylvania | Hellertown (Borough), Northampton County | Saucon Creek | Approximately 1,435 feet downstream of confluence of Black River | *259 | *260
|  |  | Approximately 540 feet downstream of Meadows Road | *298 | *296
Maps available for inspection at the Hellertown Borough Municipal Building, 685 Main Street, Hellertown, Pennsylvania.
Send comments to Mr. James Sigworth, Hellertown Borough Manager, 685 Main Street, P.O. Box A, Hellertown, Pennsylvania 18055-0222.
Pennsylvania | Lehigh (Township), Northampton County | Lehigh River | Approximately 1.02 miles downstream of State Route 145 | *322 | *321
|  |  | At the county boundary | *387 | *388
Maps available for inspection at the Lehigh Township Municipal Building, 1069 Municipal Road, Walnutport, Pennsylvania.
Send comments to Mr. Richard Demko, Chairman of the Lehigh Township Board of Supervisors, 1609 Municipal Road, Walnutport, Pennsylvania 18088.
Pennsylvania | Lower Mount Bethel (Township), Northampton County | Delaware River | Approximately 0.44 mile downstream of confluence with Mud Run | *206 | *207
|  |  | Just downstream of the Riverton-Belvidere Highway bridge | *256 | *255
Maps available for inspection at the Lower Mount Bethel Township Hall, 6984 South Delaware Drive, Martins Creek, Pennsylvania.
Send comments to Mr. Anthony Gasparetti, Chairman of the Lower Mount Bethel Township Board of Supervisors, P.O. Box 257, Martins Creek, Pennsylvania 18063.
Pennsylvania | Lower Saucon (Township), Northampton County | Lehigh River | Approximately 1.61 miles upstream of Chain Dam | *208 | *209
|  |  | Just upstream of Freemansburg Highway bridge | *222 | *223
|  | Saucon Creek | Approximately 50 feet upstream of Friedensville Road | *277 | *278
|  |  | At the county boundary | *333 | *337
Maps available for inspection at the Lower Saucon Township Hall, 3700 Old Philadelphia Pike, Bethlehem, Pennsylvania.
Send comments to Mr. Jeffrey Zettlemoyer, Assistant Lower Saucon Township Manager, 3700 Old Philadelphia Pike, Bethlehem, Pennsylvania 18015.
Pennsylvania | McConnellsburg (Borough), Fulton Conty | Big Cove Creek | At the corporate limits (south) | None | *855
|  |  | At the corporate limits (north) | None | *871
Maps available for inspection at the Fulton County Courthouse, North 2nd Street, McConnellsburg, Pennsylvania.
Send comments to The Honorable Max Stenger, Mayor of the Borough of McConnellsburg, 112 Lincolnh Way East, McConnellsburg, Pennsylvania 17233.
Pennsylvania | North Catasauqua (Borough), Northampton County | Lehigh River | At the county boundary | *280 | *281
|  |  | Approximately 1,900 feet downstream of confluence with Dry Run | *285 | *287
Maps Available for inspection at the North Catasauqua Borough Hall, 1066 Fourth Street, North Catasauqua, Pennsylvania.
Send comments to Mr. Joseph Keglovits, President of the Borough of North Catasauqua, 1066 Fourth Street, Catasauqua, Pennsylvania 18032.
Pennsylvania | Northampton (Borough), Northampton County | Lehigh River | Approximately 1,900 feet downstream of confluence with Dry Run | *285 | *287
|  |  | Approximately 1.16 miles upstream of Route 329 | *302 | *305
Maps available for inspection at the Northampton Borough Municipal Office, 1401 Laubach Avenue, Northampton, Pennsylvania.
Send comments to Mr. Charles Bodnar, President of the Northampton Borough Council, 1401 Laubach Avenue, P.O. Box 70, Northampton, Pennsylvania 18067-0070.
Pennsylvania | North Whitehall (Township), Lehigh County | Fells Creek | At the confluence with the Lehigh River | *318 | *315
|  |  | A point approximately 750 feet upstream of Neffs-Laurys Road | None | *546
Maps available for inspection at the North Whitehall Township Municipal Building, 3256 Levans Road, Coplay, Pennsylvania.
Send comments to Ms. Janet Talotta, Chairman of the North Whitehall Township Board of Supervisors, 3256 Levans Road, Coplay, Pennsylvania 18037.
Pennsylvania | Palmer (Township), Northampton County | Lehigh River | Approximately 0.63 mile downstream of Chain Dam | *202 | *195
|  |  | Approximately 1.71 miles upstream of Chain Dam | *210 | *209
Maps available for inspection at the Palmer Township Hall, 3 Weller Place, Palmer, Pennsylvania.
Send comments to Mr. Jeffrey Young, Chairman of the Palmer Township Board of Supervisors, 3 Weller Place, P.O. Box 3039, Palmer, Pennsylvania 18043.
Pennsylvania | Perkasie (Borough), Bucks County | East Branch Perkiomen Creek | At downstream corporate limits | *308 | *307
|  |  | Approximately 620 feet upstream of East Callowhill Road | *318 | *317
Maps available for inspection at the Perkasie Borough Office, 311 South 9th Street, Perkasie, Pennsylvania.
Send comments to Mr. John L. Cornelius, Perkasie Borough Manager, P.O. Box 275, Perkasie, Pennsylvania 18944.
Pennsylvania | Plainfield (Township), Northampton County | West Branch Little Bushkill Creek | Approximately 460 feet downstream of State Route 512 | None | *682
|  |  | Approximately 300 feet downstream of Male Street | None | *689
Maps available for inspection at the Plainfield Township Hall, 6292 Sullivan Trail, Nazareth, Pennsylvania.
Send comments to Mr. Randy Lieberman, Chairman of the Township of Plainfield Board of Supervisors, 6292 Sullivan Trail, Nazareth, Pennsylvania 18064.
Pennsylvania | Portland (Borough), Northampton County | Delaware River | Approximately 0.36 mile downstream of confluence with Jacoby Creek | *293 | *294
|  |  | Approximately 0.60 mile upstream of confluence with Jacoby Creek | *298 | *299
Maps available for inspection at the Portland Borough Building, 1 Division Street, Portland, Pennsylvania.
Send comments to The Honorable Kay Bucci, Mayor of the Borough of Portland, P.O. Box 295, Portland, Pennsylvania 18351.
Pennsylvania | Sellersville (Borough), Bucks County | East Branch Perkiomen Creek | Approximately 150 feet downstream of CONRAIL bridge | *302 | *303
|  |  | At upstream corporate limits | *308 | *307
Maps available for inspection at the Sellersville Borough Hall, 140 East Church Street, Sellersville, Pennsylvania.
Send comments to The Honorable Joseph F. Hufnagle, Sr., Mayor of the Borough of Sellersville, 140 East Church Street, Sellersville, Pennsylvania 18960.
Pennsylvania | Todd (Township), Fulton County | Big Cove Creek | Approximately 50 feet downstream of State Route 16 | None | *865
|  |  | Approximately 0.6 mile upstream of State Route 16 | None | *887
Maps available for inspection at the Todd Township Building, 2998 East Dutch Corner Road, McConnellsburg, Pennsylvania.
Send comments to Mr. Mack Clevenger, Chairman of the Todd Township Board of Supervisors, P.O. Box 243, McConnellsburg, Pennsylvania 17233.
Pennsylvania | Upper Mt. Bethel (Township), Northampton County | Delaware River | Just downstream of Riverton-Belvidere Highway bridge | *256 | *255
|  |  | Approximately 110 feet downstream of the county boundary | *314 | *313
Maps available for inspection at the Mt. Bethel Township Hall, 387 Ye Olde Highway, Mt. Bethel, Pennsylvania.
Send comments to Mr. Lewis L. Donatelli, Sr., Chairman of the Upper Mt. Bethel Township Board of Supervisors, 387 Ye Olde Highway, Mt. Bethel, Pennsylvania 18343.
Pennsylvania | Walnutport (Borough), Northampton County | Lehigh River | Approximately 1.05 miles downstream of Route 946 (Main Street) | *356 | *366
|  |  | Approximately 0.4 mile upstream of Route 946 (Main Street) | *366 | *367
Maps available for inspection at the Walnutport Borough Offices, 417 Lincoln Avenue, Walnutport, Pennsylvania.
Send comments to Mr. William Turk, President of the Walnutport Borough Council, 120 Lincoln Avenue, Walnutport, Pennsylvania 18068.
Pennsylvania | West Easton (Borough), Northampton County | Lehigh River | Approximately 0.88 mile downstream of Glendon Parkway | *192 | *195
|  |  | Approximately 50 feet downstream side of 25th Street | *197 | *195
Maps available for inspection at the West Easton Borough Hall, 237 7th Street, West Easton, Pennsylvania.
Send comments to Mr. Carl Persion, West Easton Borough Council President, 237 7th Street, West Easton, Pennsylvania 18042.
Pennsylvania | West Rockhill (Township), Bucks County | East Branch Perkiomen Creek | At the upstream side of CountyLine Road | *275 | *276
|  |  | Approximately 550 feet downstream of CONRAIL bridge | *302 | *301
Maps available for inspection at the West Rockhill Township Hall, 1028 Ridge Road, Sellersville, Pennsylvania.
Send comments to Mr. Richard Derstine, Chairman of the Township of West Rockhill Board of Supervisors, 1028 Ridge Road, Sellersville, Pennsylvania 18960.
Pennsylvania | Williams (Township), Northampton County | Lehigh River | Approximately 0.27 mile upstream of Chain Dam | *204 | *203
|  |  | Approximately 1.61 miles upstream of Chain Dam | *208 | *209
|  | Delaware River | At the county boundary | *163 | *165
|  |  | Approximately 1 mile upstream of Interstate 78 | *186 | *191
Maps available for inspection at the Williams Township Municipal Building, 655 Cider Press Road, Easton, Pennsylvania.
Send comments to Mr. Jeffery Marsh, Williams Township Manager, 655 Cider Press Road, Easton, Pennsylvania 18042.
Pennsylvania | Wilson (Borough), Northampton County | Lehigh River | Approximately 500 feet downstream of 25th Street | *197 | *195
|  |  | Approximately 950 feet upstream of 25th Street | *197 | *195
Maps available for inspection at the Wilson Borough Hall, 2040 Hay Terrace, Easton, Pennsylvania.
Send comments to Mr. David S. Perruso, President of the Wilson Borough Council, 2040 Hay Terrace, Easton, Pennsylvania 18042.
Rhode Island | Coventry (Town), Kent County | Tributary A1 | Approximately 400 feet upstream of the confluence with South Branch Pawtuxet River | *241 | *239
|  |  | Approximately 55 feet upstream of Flat River Road | *254 | *246
|  | Tributary A2 | A point approximately 37 feet upstream of Bike Path | *254 | *241
|  |  | A point approximately 85 feet upstream of Bike Path | *254 | *241
Maps available for inspection at the Coventry Town Hall, 1670 Flat River Road, Coventry, Rhode Island.
Send comments to Mr. Francis Frobel, Coventry Town Manager, Coventry Town Hall, 1670 Flat River Road, Coventry, Rhode Island 02816.
Virginia | Danville (City), Pittsylvania County | Apple Branch | At confluence with Dan River | None | *418
|  |  | Approximately 25 feet upstream of Northmont Boulevard | None | *535
|  | Dan River | At downstream corporate limits | *395 | *396
|  |  | Approximately 970 feet downstream of upstream corporate limits | *457 | *458
|  | Sandy Creek | At confluence with Dan River | *421 | *424
|  |  | At downstream side of U.S. Route 58 | *423 | *424
|  | Sandy River | At confluence with Dan River | *424 | *427
|  |  | Just downstream of old U.S. Route 58 | *426 | *427
|  | Pumpkin Creek | At confluence with Dan River | *400 | *401
|  |  | 750 feet upstream of State Route 265 | *400 | *401
|  | Jackson Branch | At confluence with Dan River | *401 | *403
|  |  | Approximately 1,725 feet upstream of Goodyear Boulevard (Whitmell Street) | *402 | *403
|  | Fall Creek | At confluence with Dan River | *403 | *404
|  |  | 100 feet downstream of Halifax Street | *403 | *404
Maps available for inspection at the Department of Community Development, 427 Patton Street, Danville, Virginia.
Send comments to Mr. Lyle Lacy, Interim City Manager, P.O. Box 3300, Danville, Virginia 24543.
Virginia | Monterey (Town), Highland County | West Straight Creek | Approximately 120 feet downstream of the downstream corporate limits | None | *2,847
|  |  | Approximately 615 feet upstream of Mill Alley | None | *2,965
Maps available for inspection at the Town of Monterey Building and Zoning Office, Courthouse Annex, Spruce Street, Monterey, Virginia.
Send comments to The Honorable Janice S. Warner, Mayor of the Town of Monterey, P.O. Box 460, Monterey, Virginia 24465.
West Virginia | Moorefield (Town), Hardy County | Unnamed Ponding Area | Approximately 500 feet southwest of the intersection of U.S. Route 220 and Monroe Avenue | *805 | *804
|  | South Branch Potomac River | Unnamed tributary from downstream corporate limits to Spring Avenue | None | *798
Maps available for inspection at the Moorefield Town Hall, 206 Winchester Avenue, Moorefield, West Virginia.
Send comments to The Honorable Larry P. Snyder, Mayor of the Town of Moorefield, 206 Winchester Avenue, Moorefield, West Virginia 26836.

(Catalog of Federal Domestic Assistance No. 83.100, “Flood Insurance.”)
Dated: March 31, 2000.
Michael J. Armstrong,
Associate Director for Mitigation.

[FR Doc. 00-9065 Filed 4-11-00; 8:45 am]

BILLING CODE 6718-04-P